ENVIRONMENTAL PROTECTION AGENCY

[FRL-7829-8]

Guide To Analyzing Environmental Innovations

AGENCY: Environmental Protection Agency (EPA).

ACTION: Notice on guide to analyze environmental innovations.

SUMMARY: The U.S. Environmental Protection Agency's National Center for Environmental Innovation (NCEI) promotes the use of innovative approaches to environmental problem-solving efforts that deliver improved environmental results. As part of this process, the Evaluation Support Division (ESD) within NCEI promotes and conducts rigorous evaluations to determine whether innovations deliver environmental results that surpass the traditional way of doing business and to identify lessons that can be applied more broadly. To guide its efforts and ensure consistency, NCEI developed a set of evaluation modules that outline core questions to be answered as part of any evaluation, either within EPA or outside the Agency. Because the field of environmental evaluation is fairly young, and EPA did not have one comprehensive method for evaluating innovation projects, ESD produced a “Companion User's Guide” and corresponding questions in a modular format called, “Modular Approach to Analyzing Environmental Innovation,” to help innovation practitioners analyze environmental innovations. The analysis modules include a series of questions that encourage critical thinking and assessment of successes, obstacles and lessons learned . The modules can be applied in a variety of scenarios, including developing an innovative project, informing future evaluation efforts, assessing environmental outcomes, and evaluating the potential transferability of an innovation. The following six modules are currently being tested on innovative projects: Background Information on the Innovation gathers information on project goals, purpose, focus, stakeholders, tools used, and legal/regulatory/programmatic issues; Environmental Outcomes evaluates measurement approach and project results and both qualitative and quantitative data; Costs and Cost-Effectiveness examines costs to the regulators, costs to other stakeholders, unintended costs, benefits of the project, resulting economic activity, cost analysis for future projects, and relative cost advantage; Compliance Assistance looks at reporting requirements, accountability, enforceability, and effectiveness compared to the traditional regulatory approaches; Transferability looks at the issue of whether the innovation could easily be transferred to other contexts and projects; and Public Involvement analyzes the degree to which the public was involved in the innovation, and the associated successes and lessons learned. The module questions were developed to be flexible enough to fit a variety of innovative experiments that are conducted both inside and outside EPA. The modules and user's guide are available for review at http://www.epa.gov/evaluate. If you do not have Internet access, please contact Suganthi Simon at 202-566-2199 or by mail, to receive hardcopies of the documents.

DATES: We must receive your comments on or before November 30, 2004.

ADDRESSES: Address all comments about the innovation analysis modules to Suganthi Simon, U.S. EPA, 1200 Pennsylvania Avenue, MC 1807T, Washington, DC 20460. If you prefer to send your comments by email, use the following address: simon.suganthi@epa.gov.

FOR FURTHER INFORMATION CONTACT: Suganthi Simon at (202) 566-2199.

SUPPLEMENTARY INFORMATION:

Invitation To Comment

We invite you to submit comments regarding the draft guide to analyzing environmental innovations and module questions. Comments on whether or not you think this tool could be widely applied and is flexible enough to meet performance measurement and analytical needs of a variety of environmental innovations are welcome. Please note that this notice does not solicit applications nor mandates the use of the guide or module questions in innovative projects and programs.

Dated: October 18, 2004.
Elizabeth A. Shaw,
Director, Office of Environmental Policy Innovation.

[FR Doc. 04-23839 Filed 10-22-04; 8:45 am]

BILLING CODE 6560-50-P